COMMODITY FUTURES TRADING COMMISSION

17 CFR Part 170

RIN 3038-AE09

Membership in a Registered Futures Association

Correction

In proposed rule document 13-26790 beginning on page 67078 in the issue of Friday, November 8, 2013, make the following correction:

On page 67078, in the third column, under DATES, in the last line “January 17, 2014” should read “January 7, 2014”.

[FR Doc. C1-2013-26790 Filed 11-12-13; 8:45 am]

BILLING CODE 1505-01-D